DEPARTMENT OF THE INTERIOR

Bureau of Land Management

[LLOR936000-L14400000-ET0000; WAOR-55695.HAG22-0016]

Public Land Order No. 7910; Extension of Public Land Order No. 7533; Withdrawal of National Forest System Land for the Holden Mine Reclamation Project, Washington

AGENCY: Bureau of Land Management, Interior.

ACTION: Public land order.

SUMMARY: This order extends the duration of the withdrawal created by Public Land Order (PLO) No. 7533 for an additional 20-year period. PLO No. 7533 withdrew 1,265 acres of National Forest System lands in the Okanogan-Wenatchee National Forest from location and entry under the United States mining laws for a period of 20 years to protect the Holden Mine Reclamation Project. Under that project, the United States Forest Service is remediating the release of hazardous substances under the Comprehensive Environmental Response, Compensation, and Liability Act, including undertaking infrastructure improvements and capital investments. A Federal Register notice published on October 27, 2021, corrected the legal land description and acreage figure (from 1,265 acres to 1,285 acres) stated in PLO No. 7533. The withdrawal extension is necessary to continue protecting the Holden Mine Reclamation Project in Chelan County, Washington. Without the extension, the protection afforded by the withdrawal expires on August 5, 2022.

DATES: This PLO takes effect on August 6, 2022.

FOR FURTHER INFORMATION CONTACT: Luke Poff, Realty Specialist, at telephone (503) 808-6001, by email at lpoff@blm.gov; Bureau of Land Management, Oregon/Washington State Office, P.O. Box 2965, Portland, Oregon 97208. The Forest Service can be reached at the Okanogan-Wenatchee National Forest Supervisor's Office, 215 Melody Lane, Wenatchee, WA 98801, (509) 664-9204.

Individuals in the United States who are deaf, deafblind, hard of hearing, or have a speech disability may dial 7-1-1 (TTY, TDD, or Tele Braille) to access telecommunications relay services. Individuals outside the United States should use the relay services offered within their country to make international calls to the point-of-contact in the United States.

SUPPLEMENTARY INFORMATION: The purpose for which the withdrawal was first made requires an extension in order to continue protecting the Holden Mine Reclamation Project and the capital investments associated with it.

Order

By virtue of the authority vested in the Secretary of the Interior by Section 204 of the Federal Land Policy and Management Act of 1976, 43 U.S.C. 1714, it is ordered as follows:

PLO No. 7533 (67 FR 50894), as corrected (86 FR 59422), incorporated herein by reference, which withdrew 1,285 acres of National Forest System lands from location and entry under the United States mining laws (30 U.S.C. chapter 2) to protect the Holden Mine Reclamation Project, is hereby extended for an additional 20-year period.

This withdrawal will expire 20 years from the effective date of this order unless, as a result of a review conducted prior to the expiration date pursuant to Section 204(f) of the Federal Land Policy and Management Act, the Secretary determines that the withdrawal shall be further extended.

(Authority: 43 U.S.C. 1714)

Shannon A. Estenoz,
Assistant Secretary for Fish and Wildlife and Parks.

[FR Doc. 2022-15684 Filed 7-21-22; 8:45 am]

BILLING CODE 3411-15-P